DEPARTMENT OF STATE

[Public Notice 6878]

Notice of Meeting of a Study Group of the U.S. Department of State Advisory Committee on Private International Law

A Study Group of the Department of State Advisory Committee on Private International Law (ACPIL) will hold a public meeting to continue the discussion of the treatment of IP-secured financing practices in the United Nations Commission on International Trade (UNCITRAL) Draft Legislative Guide on Secured Transactions (Guide). At the 40th Session of the UNCITRAL in December 2007, it adopted a legislative guide on secured transactions, including recommendations dealing with the scope of the Guide as it relates to IP law and secured financing, as well as the inclusion in the commentary to the Guide of explanatory statements on the treatment of IP as secured financing. UNCITRAL also approved a work project on IP law matters as they relate to secured financing law. Other sessions for that work project were held in May and October of 2008 and April and October 2009. This is not a meeting of the full Advisory Committee.

The Study Group will use this public meeting to continue to exchange thoughts on the relationship between secured finance and IP and how this matter should be addressed in the new draft IP annex to the Guide. The report of the earlier sessions of the UNCITRAL Working Group and the papers prepared by the Secretariat for the next session of the UNCITRAL working group can be obtained at http://www.uncitral.org/uncitral/en/commission/working_groups/6Security_Interests.html. The revised document that will be reviewed at the February 8-12 session of the Working Group in New York is also available on this link.

Time and Place: The public meeting will take place at the Department of State, Office of Private International Law, 2430 E Street, NW., Washington, DC on Wednesday, February 3, 2010, from 10 a.m. to 12:30 p.m. EST.

Public Participation: This Study Group meeting is open to the public, subject to the capacity of the meeting room. Access to the meeting building is controlled; persons wishing to attend should contact Tricia Smeltzer or Niesha Toms of the Department of State Legal Adviser's Office at SmeltzerTK@state.gov or TomsNN@state.gov and provide your name, e-mail address, and mailing address to get admission into the meeting or to get directions to the office. Persons who cannot attend but who wish to comment are welcome to do so by e-mail to Michael Dennis at DennisMJ@state.gov. A member of the public needing reasonable accommodation should advise those same contacts not later than January 27th. Requests made after that date will be considered, but might not be able to be fulfilled. If you are unable to attend the public meeting and you would like to participate by teleconferencing, please contact Tricia Smeltzer or Niesha Toms at 202-776-8420 to receive the conference call-in number and the relevant information.

Information about members of the public is sought pursuant to 22 U.S.C. 2658; Executive Order 10450; Executive Order 12356: and Section 506 (a) of the Federal Records Act of 1950, as amended (44 U.S.C. 3101). The primary purpose for collecting the information is to assure protection of U.S. Department of State facilities and to allow all Department of State (DOS) staff to pre-register single visitors or groups and verify the requester has escort authority. The information furnished is used by the Department of State's Bureau of Diplomatic Security to enhance the Department's security by tracking visitor traffic and to prevent security vulnerability. The information may be shared with Bureau of Diplomatic Security staff as a routine use, and on an as-needed basis with outside law-enforcement organizations as part of the Department's effort to combat terrorism and to cooperate with law enforcement investigations. In addition, the information provided is used to better track, manage, and control access to buildings and restricted areas under the jurisdiction of the Department of State; to determine the status of individuals entering Department of State premises; and to provide data requisite to investigations and security reports. Data may be shared with other Local, State, and Federal law enforcement agencies. Failure to provide the information requested may result in denial of access to U.S. Department of State facilities.

Dated: January 15, 2010.
Michael J. Dennis,
Attorney-Adviser, Office of Private International Law, Department of State.

[FR Doc. 2010-1353 Filed 1-22-10; 8:45 am]

BILLING CODE 7410-08-P